DEPARTMENT OF ENERGY

Federal Energy Regulatory Commission

[Docket No. CP09-415-000]

Northwest Pipeline GP; Notice of Application

May 27, 2009.

Take notice that on May 20, 2009, Northwest Pipeline GP (Northwest), 295 Chipeta Way, Salt Lake City, Utah 84108, filed in Docket No. CP09-415-000, an application pursuant to section 7 of the Natural Gas Act (NGA) and Part 157 of the Commission's Regulations thereunder, requesting the Commission to grant a certificate of public convenience and necessity authorizing Northwest to construct and operate its Sundance Trail Expansion Project (Project), all as more fully set forth in the application which is on file with the Commission and open to public inspection. This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 420-5589.

Specifically, Northwest's states that its proposed Project consists of: (1) The construction of new expansion capacity; and (2) replacement and reliability work related the Northwest's existing system capacity. The proposed Project will provide 150,000 Dth/d of firm transportation capacity from the Greasewood and Meeker/White River Hubs in Rio Blanco County, Colorado to the Opal Hub area in Lincoln County, Wyoming which is created by utilizing new facilities as well as available unsubscribed capacity on Northwest's system. The new Project facilities consist of: (1) Approximately 15.5 miles of 30-inch diameter pipeline loop between milepost 422.2 to 437.7 in Lincoln County, Wyoming and (2) the replacement, construction and operation of compression facilities (net 3,980 ISO horsepower increase), at the Vernal Compressor Station in Uintah County, Utah. The replacement and reliability work consists of abandonment of the two Allison Delaval centrifugal compressor units (3,165 horsepower each) at the Vernal Compressor Station with a new Solar Taurus 70 turbine driven centrifugal compressor unit (10,310 horsepower). In addition, Northwest requests a pre-determination of roll-in for costs associated with the Project. Northwest states that the estimated total cost of the Project, including the removal costs of the existing facilities is approximately $59.4 million, of which approximately $46.7 million reflects the cost of expansion capacity and $12.7 million reflects the costs of replacement and reliability work at the Vernal Compressor Station.

Any questions regarding this application should be directed to Lynn Dahlberg, Manager Certificates and Tariffs, Northwest Pipeline GP, 295 Chipeta Way, Salt Lake City, Utah 84108, at 801-584-6851.

Pursuant to section 157.9 of the Commission's rules, 18 CFR 157.9, within 90 days of this Notice the Commission staff will either: complete its environmental assessment (EA) and place it into the Commission's public record (eLibrary) for this proceeding; or issue a Notice of Schedule for Environmental Review. If a Notice of Schedule for Environmental Review is issued, it will indicate, among other milestones, the anticipated date for the Commission staff's issuance of the final environmental impact statement (FEIS) or EA for this proposal. The filing of the EA in the Commission's public record for this proceeding or the issuance of a Notice of Schedule for Environmental Review will serve to notify Federal and State agencies of the timing for the completion of all necessary reviews, and the subsequent need to complete all Federal authorizations within 90 days of the date of issuance of the Commission staff's FEIS or EA.

There are two ways to become involved in the Commission's review of this project. First, any person wishing to obtain legal status by becoming a party to the proceedings for this project should, on or before the comment date stated below, file with the Federal Energy Regulatory Commission, 888 First Street, NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Persons who wish to comment only on the environmental review of this project should submit an original and two copies of their comments to the Secretary of the Commission. Environmental commentors will be placed on the Commission's environmental mailing list, will receive copies of the environmental documents, and will be notified of meetings associated with the Commission's environmental review process. Environmental commentors will not be required to serve copies of filed documents on all other parties. However, the non-party commentors will not receive copies of all documents filed by other parties or issued by the Commission (except for the mailing of environmental documents issued by the Commission) and will not have the right to seek court review of the Commission's final order.

Comments, protests and interventions may be filed electronically via the Internet in lieu of paper. See 18 CFR 385.2001(a)(1)(iii) and the instructions on the Commission's Web site under the “e-Filing” link at http://www.ferc.gov. The Commission strongly encourages intervenors to file electronically. Persons unable to file electronically should submit an original and 14 copies of the protest or intervention to the Federal Energy Regulatory Commission, 888 First Street, NE., Washington, DC 20426.

Comment Date: 5 p.m. Eastern Time on June 17, 2009.

Kimberly D. Bose,
Secretary.

[FR Doc. E9-12870 Filed 6-2-09; 8:45 am]

BILLING CODE 6717-01-P